Title 3—

The President

Proclamation 9665 of October 31, 2017

Critical Infrastructure Security and Resilience Month, 2017

By the President of the United States of America

A Proclamation

During Critical Infrastructure Security and Resilience Month, we emphasize the importance of safeguarding our Nation's infrastructure. Critical infrastructure systems are those physical and virtual assets that are essential to our physical security, economic security, or public health. We need resilient, well-maintained critical infrastructure so that all Americans have access to safe food, reliable electricity, clean water, convenient transportation systems, quality public health and medical services, and instant communication every day.

The natural disasters our country has experienced in recent months provide a sobering reminder of the necessity for secure, reliable, and resilient infrastructure. Damage from wind, flood, and fire has ravaged communities and industries, damaging electric grids and transmission lines, dams, roads, cellular towers, hospitals, nursing homes, and businesses. America's critical infrastructure is among the most secure and resilient in the world, but as recent events have shown, we must continue to invest in research and development to ensure the vital services it provides withstand complex and dynamic threats.

Our critical infrastructure also faces threats from capacity-induced strain, terrorist attacks, accidents, pandemics, space weather, and cyberattacks. To confront these diverse challenges systematically, we must take steps to enhance our Nation's economic, intellectual, and technological leadership. My Administration will help our businesses invest in needed capital and research and development by reducing burdensome regulations and enacting comprehensive tax reform. We will also renew our Nation's focus on ensuring that the next generation has the education and training, particularly in science, technology, engineering, and math, required to meet the known and unknown threats of the future.

This month, we recommit ourselves to keeping America strong, prosperous, and resilient. We highlight the importance of infrastructure in our daily lives and challenge all Americans to help protect, preserve, and strengthen these indispensable national capabilities.

NOW, THEREFORE, I, DONALD J. TRUMP, President of the United States of America, by virtue of the authority vested in me by the Constitution and the laws of the United States, do hereby proclaim November 2017 as Critical Infrastructure Security and Resilience Month. I call upon the people of the United States to recognize the importance of protecting our Nation's infrastructure and to observe this month with appropriate measures to enhance our national security and resilience.

IN WITNESS WHEREOF, I have hereunto set my hand this thirty-first day of October, in the year of our Lord two thousand seventeen, and of the Independence of the United States of America the two hundred and forty-second.

[FR Doc. 2017-24278

Filed 11-3-17; 11:15 am]

Billing code 3295-F8-P